DEPARTMENT OF THE INTERIOR

Bureau of Land Management

[NM-930-1310-02; OKNM 98653]

New Mexico: Proposed Reinstatement of Terminated Oil and Gas Lease OKNM 98653

Under the provisions of Public Law 97-451, a petition for reinstatement of oil and gas lease OKNM 98653 for lands in Dewey County, Oklahoma, was timely filed and was accompanied by all required rentals and royalties accruing from June 1, 2001, the date of termination.

No valid lease has been issued affecting the lands. The lessees have agreed to new lease terms for rentals and royalties at rates of $10.00 per acre or fraction thereof and 16⅔ percent, respectively. The lessees have paid the required $500.00 administrative fee and have reimbursed the Bureau of Land Management for the cost of this Federal Register notice.

The Lessees have met all the requirements for reinstatement of the lease as set out in Sections 31(d) and (e) of the Mineral Leasing Act of 1920 (30 USC 188), and the Bureau of Land Management is proposing to reinstate the lease effective June 1, 2001, subject to the original terms and conditions of the lease and the increased rental and royalty rates cited above.

FOR FURTHER INFORMATION CONTACT: Bernadine T. Martinez, BLM, New Mexico State Office, (505) 438-7530.

Dated: March 19, 2002.
Bernadine T. Martinez,
Land Law Examiner, Fluids Adjudication Team.

[FR Doc. 02-11085 Filed 5-3-02; 8:45 am]

BILLING CODE 4310-FB-P